DEPARTMENT OF THE TREASURY

Agency Information Collection Activities; Submission for OMB Review; Comment Request; Designation of Financial Market Utilities

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before April 27, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Departmental Offices (DO)

Title: Designation of Financial Market Utilities

OMB Control Number: 1505-0239.

Type of Review: Extension without change of a currently approved collection.

Abstract: The information collected in § 1320.20 from Financial Market Utilities (FMUs) will be used generally by the Financial Stability Oversight Council to determine whether to designate or rescind the designation of an FMU under Title VIII of the Dodd-Frank Wall Street Reform and Consumer Protection Act. The collection of information in § 1320.11 provides an opportunity for an FMU to submit written materials to the Council before the Council decides whether to propose: (1) The designation of the FMU as systemically important; or (2) rescinding the designation of the FMU as systemically important. Similarly, the collection of information in § 1320.12 provides an opportunity for an FMU to request a hearing or submit written materials to the Council to contest the Council's proposed determination to either designate the FMU as systemically important or rescind the designation of the FMU.

Form: None.

Affected Public: Businesses or other for-profits.

Estimated Total Annual Burden Hours: 500.

Authority: 44 U.S.C. 3501 et seq.

Dated: March 23, 2017.
Spencer W. Clark,
Treasury PRA Clearance Officer.

[FR Doc. 2017-06125 Filed 3-27-17; 8:45 am]

BILLING CODE 4810-25-P